DEPARTMENT OF AGRICULTURE

Agricultural Marketing Service

[Doc. Number AMS-FV-11-0054; FV-13-331]

United States Standards for Grades of Okra

AGENCY: Agricultural Marketing Service, USDA.

ACTION: Final notice.

SUMMARY: The Agricultural Marketing Service (AMS) of the Department of Agriculture (USDA) is revising the voluntary United States Standards for Grades of Okra by removing the “Unclassified” category from the standards.

DATES: Effective: November 22, 2013.

FOR FURTHER INFORMATION CONTACT: Dave Horner, Standardization Branch, Specialty Crops Inspection Division, telephone: (540) 361-1128 or 1150. The revised United States Standards for Grades of Okra are available on the Specialty Crops Inspection Division Web site at www.ams.usda.gov/scihome.

SUPPLEMENTARY INFORMATION: Section 203(c) of the Agricultural Marketing Act of 1946 (7 U.S.C. 1621-1627), as amended, directs and authorizes the Secretary of Agriculture “to develop and improve standards of quality, condition, quantity, grade and packaging and recommend and demonstrate such standards in order to encourage uniformity and consistency in commercial practices.” AMS is committed to carrying out this authority in a manner that facilitates the marketing of agricultural commodities and makes copies of official standards available upon request. Because the United States Standards for Grades of Fruits and Vegetables are not connected with Federal marketing orders or U.S. import requirements, they no longer appear in the Code of Federal Regulations. They are, however, maintained by the AMS Fruit and Vegetable Program and are available on the Internet at www.ams.usda.gov/scihome.

AMS is revising the voluntary United States Standards for Grades of Okra using the procedures in Part 36, Title 7 of the Code of Federal Regulations (7 CFR Part 36). These standards were last revised December 18, 1928.

Background and Response to Comments

On February 9, 2012, AMS published a notice in the Federal Register (77 FR 6772) soliciting comments about removing the “unclassified” section and any other possible revision to the United States Standards for Grades of Okra. The public comment period closed on April 9, 2012, with no responses.

On May 1, 2013, AMS published a second notice in the Federal Register (78 FR 25416) soliciting comments about removing the “unclassified” section from the United States Standards for Grades of Okra. The public comment period closed on May 31, 2013, with no responses.

Based on the information gathered, AMS will remove and reserve “Section 51.3946 Unclassified.” The revision will bring the okra standards in line with current marketing practices and other commodity standards. This section is being removed in standards for all commodities as they are revised. It is no longer considered necessary since it is not a grade and only serves to show that no grade has been applied to the lot.

The official grade of a lot of okra covered by these standards will be determined by the procedures set forth in the Regulations Governing Inspection, Certification, and Standards of Fresh Fruits, Vegetables and Other Products (Sec. 51.1 to 51.61).

The revisions to the United States Standards for Grades of Okra will be effective 30 days after publication of this notice in the Federal Register.

Authority: 7 U.S.C. 1621-1627.

Dated: October 17, 2013.
Rex A. Barnes,
Associate Administrator, Agricultural Marketing Service.

[FR Doc. 2013-24818 Filed 10-22-13; 8:45 am]

BILLING CODE 3410-02-P